GENERAL SERVICES ADMINISTRATION

[PBS-N01]

Notice of Availability to Distribute a Record of Decision for the Construction of a New U.S. Commercial Port of Entry in Derby Line, Vermont

AGENCY: Public Buildings Service, GSA.

ACTION: Notice of Availability.

SUMMARY: The General Services Administration (GSA), along with the Federal Highway Administration and the Vermont Agency of Transportation as cooperating agencies, announces its intent to distribute a Record of Decision (ROD) prepared pursuant to the National Environmental Policy Act (NEPA) of 1969, as amended, 42 USC 4321—4347 (NEPA) that documents GSA’s efforts to assess the potential impacts of the construction of a new U.S. Commercial Port of Entry in Derby Line, Vermont (the “Proposed Action”). At the request of Customs and Border Protection (CBP), the GSA is proposing to construct a new Commercial Port of Entry which meets their needs as well as the design requirements of GSA.

The existing Port of Entry site and facilities are inefficient and are very difficult to maneuver through, especially for large trucks, resulting in extensive queuing and delays. Additionally, all building spaces are currently fully occupied and there is no swing or vacant space that could be utilized to house the additional requirements at this site. Due to the current layout, expansion of existing spaces is not possible. Due to organizational changes within CBP in the past few years, as well as changes in requirements and usage of the Port of Entry, the existing facility is outdated and no longer adequately meets its current or future requirements.

The Proposed Action has been defined and includes:

(a) Identification of land requirements, including acquisition of adjoining land; (b) demolition of existing government structures at the Port of Entry; (c) construction of a main administration building and ancillary support buildings; and (d) consequent potential alterations to Route I-91 and secondary roads.

Studied alternatives have identified alternative locations for the components of the Port of Entry including the main administration and ancillary support buildings, the associated roadway network and parking. A No-Action alternative has also been studied and evaluates the consequences of not constructing the new facility. This alternative has been included to provide a basis for comparison to the action alternatives as required by NEPA regulations (40 CFR 1002.14(d)).

DATES: January 17, 2008.

FOR FURTHER INFORMATION CONTACT David M. Drevinsky P.E., PMP, Regional Environmental Quality Advocate, U.S. General Services Administration, 10 Causeway Street, Room 975, Boston, MA 02222. Fax: (617) 565—5967. Phone: (617) 565—6596. E-mail: david.drevinsky@gsa.gov

SUPPLEMENTARY INFORMATION:

Distribution:

GSA will distribute 10 copies of the Record of Decision to the Haskell Free Library, 96 Caswell Avenue, Derby Line, Vermont, the Daily Memorial Library, 101 Jr. High Drive, Derby, Vermont and the Goodrich Memorial Library, 202 Main Street, Newport, Vermont.

Dated: December 11, 2007.
Glenn C. Rotondo,
Assistant Regional Administrator, Public Buildings Service, New England Region.

Record of Decision

The U.S. General Services Administration has published a Final Environmental Impact Statement on the following project:

New U.S. Commercial Port of Entry Derby Line, Vermont

Purpose and Need

The purpose of the proposed project is to replace the undersized and functionally obsolete Commercial Port of Entry at Derby Line with a new facility that meets the needs of the U.S. Customs and Border Protection Service (CBP), complies with the design requirements of GSA, and provides efficient and safe inspection and processing of vehicles and people at the border crossing.

The proposed project is needed because the size and conditions of the existing buildings, as well as the overall site configuration, are substandard, preventing the agencies assigned to the port from adequately fulfilling their respective missions. This condition has become more noticeable in recent years due to the increase in commercial truck traffic and heightened security at the border following the terrorist attacks in 2001. The deficiencies with the existing facilities have led to extensive traffic delays for vehicles entering the U.S., frequently resulting in backups of over one mile on Highway 55 in Canada. The deficiencies fall into three broad categories: 1) building deficiencies, 2) overall site deficiencies, and 3) insufficient security.

Alternatives

The following alternatives were analyzed to determine which best satisfied the project's purpose and need:

The No-Build Alternative

Under the No-Build Alternative, operation of the Port of Entry would continue at its existing location using the existing facilities. With the exception of minor repairs and upgrades to existing buildings, no new construction or demolition would take place. No new inspection lanes or facilities would be built.

The Selected Alternative

The selected alternative (the Build Alternative) consists of a new facility on the existing property and requires the full or partial acquisition of several adjacent parcels.

The Build Alternative was identified as GSA's preferred alternative in the Draft Environmental Impact Statement, and as the selected alternative in the Final Environmental Impact Statement, because it best satisfied the project's purpose and need with the least adverse environmental impact. Three alternatives—Alternatives 1, 2, and 3—were developed to locate the new port facilities within different configurations on the existing port site. However none of these alternatives were found to be feasible from a traffic engineering perspective, as described below.

Alternatives Dismissed

Alternative No. 1 would locate the Main Port Building to the east of the existing Port Building, generally in the undeveloped area situated between the northbound lanes of Route I-91 and the Caswell Avenue exit ramp. The primary inspection lanes/booths would be connected to the building's northwest corner and the Non-Commercial Secondary Inspection Building would be connected to the south. A combined Commercial Secondary Inspection and NII Building would be located to the west-southwest of the Main Port Building, immediately south of the existing non-commercial secondary inspection facilities. A new Agency Vehicle Storage Garage would be located south of the existing Commercial Secondary Inspection Building and west of the existing primary inspection lanes/booths. Finally, an outbound inspection lane/booth would be located in one of the northbound lanes of Route I-91, northeast of the Main Port Building.

Alternative No. 1 has the following negative aspects:

• Trucks would be required to back-up from the NII Building to access the Commercial Secondary Inspection Building's loading docks, although this movement would not impact through travel lanes;

• A vacant commercial property on Maple Street would be displaced to accommodate the relocated Route I-91 southbound ramp, and a vacant commercial property on Herrick Road would be displaced to accommodate the relocated Route I-91 northbound exit ramp;

• Secondary RPMs (SRPMs) would be located in a tight location, possibly complicating access and circulation;

• The provision of an appropriate deceleration lane on Route I-91 Southbound at Exit 29 would be required;

• Trucks may have difficulty accessing the parking area when exiting the NII building;

• The truck exit lane from the primary inspection lanes/booths onto Route I-91 Southbound has tight clearances near the NII building, complicating circulation;

• The proposed Route I-91 northbound geometry does not fulfill the requirements of a 40 mph design speed. Examples include the substandard length of the horizontal curve passing under Caswell Avenue, as well as its close proximity (inadequate separation) to the next horizontal curve immediately to its south;

• Poor sight distance for Route I-91 northbound traffic to the nose of the proposed northbound off-ramp (approximately 400 feet);

• The alternative does not include safety improvements to provide positive separation between opposing traffic on the northbound and southbound ramps to Caswell Avenue;

• Parking facilities for the proposed Port fall within the clear zone of the proposed Route I-91 northbound lanes, and;

• The length of the proposed northbound off-ramp would be substantially reduced from the existing condition. This is very problematic for two reasons:

• The deceleration length for vehicles exiting the highway would be reduced by approximately 50 percent.

• Local residents have complained of their inability to exit the highway due to queued vehicles on Route I-91 from the Canadian port. The proposed layout for this alternative would seriously exacerbate the existing problems.

Because Alternative No. 1 does not meet the proposed project's goals, and because it is inadequate from a traffic engineering standpoint, it was eliminated from further consideration.Alternative No. 2 is similar to Alternative No. 1 in many respects, but with several clear differences. Under this alternative, the Main Port Building would be located in the same general area as in Alternative No. 1; however Alternative No. 2 reorients the Main Port Building and combined Commercial Secondary Inspection and NII Building to be parallel, thereby creating a straight line through the inspection area. The primary inspection lanes/booths would be connected to the Main Port Building's northwest corner and the Non-Commercial Secondary Inspection Building would be connected to the south. The Agency Vehicle Storage Garage would be located farther north under this alternative, which would provide additional truck parking and improves truck access to the Route I-91 southbound off-ramp to Caswell Avenue.

Alternative No. 2 has the following negative aspects:

• Local access to the Port of Entry would require the use of a turnout located north of the Port of Entry;

• Trucks would be required to back-up from the NII Building to access the Commercial Secondary Inspection Building's loading docks, although this movement would not impact through travel lanes;

• A vacant commercial property on Maple Street would be displaced to accommodate the relocated Route I-91 southbound ramp and a vacant commercial property on Herrick Road would be displaced to accommodate the relocated Route I-91 northbound ramp;

• The horizontal alignment of Route I-91 Southbound near Exit ramp is a concern. The provision of appropriate acceleration and deceleration lanes would be needed;

• Utilizing the truck parking area located near the Agency Vehicle Storage Garage would require trucks to back-up into the circulation area;

• The proposed Route I-91 northbound geometry does not fulfill the requirements of a 40 mph design speed. Examples include the substandard length of the horizontal curve passing under Caswell Avenue (Curve A), as well as its close proximity (inadequate separation) to the next horizontal curve immediately to its south (Curve B);

• Curve B is substandard in length and curvature, and;

• The proposed Route I-91 northbound geometry consists of a “broken back” configuration, i.e., two adjacent horizontal curves in the same direction (both to the left in this instance) with minimal separation. This is a poor design practice.

Because Alternative No. 2 does not meet the proposed project's goals, and because it is inadequate from a traffic engineering standpoint, it was eliminated from further consideration.

Unlike Alternative Nos. 1 and 2, Alternative No. 3 would retain the existing Route I-91 Southbound entrance/exit ramp, and the NII Building would be a separate structure from the Commercial Secondary Inspection Building. The Main Port Building would be located in the same general area as in the other two alternatives; however its orientation would not be parallel to the NII Building, which also would be located in the same general area as in the other two alternatives. The primary inspection lanes/booths would be connected to the Main Port Building's northwest corner and the Non-Commercial Secondary Inspection Building would be connected to the south. The Commercial Secondary Inspection Building would be located in the same general area as the existing broker building, and the Agency Vehicle Garage would be located immediately north, both along the site's western perimeter.

Alternative No. 3 has the following negative aspects:

• Southbound movements to and from Route I-91's Exit 29 would complicate circulation;

• Trucks would be required to back-up from the NII Building to access the Commercial Secondary Inspection Building's loading docks;

• Would result in a tight turning radius from the NII Building to Exit 29;

• Would result in difficult truck maneuvering and parking when trucks leave the primary inspection lane/booth and are destined to the secondary inspection area;

• Would result in a higher potential for pedestrian/motor vehicle circulation conflicts on the property;

• Access to the Port of Entry from Herrick Road would require the use of a turnout located north of the Port of Entry;

• Secondary RPMs would be located in a tight location, possibly complicating access and circulation.

• The proposed Route I-91 northbound geometry does not fulfill the requirements of a 40 mph design speed. Examples include the substandard length of the horizontal curve passing under Caswell Avenue, as well as its close proximity (inadequate separation) to the next horizontal curve immediately to its south;

• Poor sight distance for Route I-91 northbound traffic to the nose of the proposed northbound off-ramp (approximately 400 feet);

• The alternative does not include safety improvements to provide positive separation between opposing traffic on the northbound and southbound ramps to Caswell Avenue;

• Parking facilities for the proposed Port fall within the clear zone of the proposed Route I-91 northbound lanes;

• The length of the proposed northbound off-ramp would be substantially reduced from the existing condition. This is very problematic for two reasons:

• The deceleration length for vehicles exiting the highway would be reduced by approximately 50 percent.

• Local residents have complained of their inability to exit the highway due to queued vehicles on Route I-91 from the Canadian port. The proposed layout for this alternative would seriously exacerbate the existing problems;

• The proposed angular parking adjacent to Route I-91 for “Referrals” will pose a severe safety concern, and;

• The Route I-91 southbound off-ramp geometry is poor and will result in poor vehicular flow exiting the Port.

Because Alternative No. 3 does not meet the goals of the proposed project, and because it is inadequate from a traffic engineering standpoint, it was eliminated from further consideration.

Due to the many problems associated with them and because another alternative exists that fully satisfies the project's purpose and need with less adverse impact, Alternative Nos. 1, 2, and 3 were dismissed from further consideration.

Environmental Consequences of the Proposed Project

The Build Alternative would have a small impact on the natural and social environment of the Derby Line region. The Build Alternative would require the full or partial acquisition of several adjacent properties. The Build Alternative would result in minor changes or impacts in traffic, noise, surface water runoff, and increased lighting. In each case, the changes would not be significant.

As a final design for the facility is developed, GSA/CBP will evaluate traffic processing flow and wait times and, if necessary, identify appropriate idling reduction strategies. Such strategies may include development of signage at strategic locations and/or educational outreach to local industries whose drivers frequently use the border crossing.

Decision

GSA has decided to proceed with the design of the Build Alternative because it best meets the purpose and need of the proposed project, and would have positive impacts on inbound traffic compared to the No-Build Alternative. The traffic circulation patterns of the Build Alternative, with the installation of increased security and technology measures, would result in shorter vehicle queues and more effective and faster processing times for inbound vehicles. The separation of non-commercial traffic from commercial traffic would greatly reduce queuing that occurs with the No-Build Alternative when more than one truck is present for processing.

The number of inbound booths for processing vehicular traffic would change from one commercial and four non-commercial lanes to one commercial, three non-commercial and one “dual-use” lane, with space reserved for the future addition of a second “dual-use” lane. The rearrangement of inspection lanes, as well as a general reconfiguration of the entire site, will result in the safer and more efficient processing of inbound vehicles. Traffic backups into Canada would be reduced with the new lane and site configurations.

GSA selected the environmentally preferable alternative. The selected and environmentally preferable alternative best met the purpose and need for the project with the least impact to the natural and social environments, and best protects, preserves, and enhances the historic, cultural, and natural resources of the area.

The following economic, technical, and GSA mission considerations were weighed in reaching the decision: The Build Alternative would adequately address the problem that the existing facility, although well maintained, does not meet GSA's or accessibility guidelines and provides only a small percentage of the total building square foot area required to meet the needs of the CBP and other agencies. It also addresses the problem that the existing Commercial Port of Entry suffers from a variety of basic deficiencies that hamper the CBP and other agencies in providing safe and efficient processing of vehicular and pedestrian traffic including:

• Deficiencies in the main building (size, accessibility, structural, etc.)

• Deficiencies in site circulation and layout

• Deficiencies in processing of inbound commercial and non-commercial vehicles, especially in the lack of space to perform secondary inspections of large commercial vehicles

• Deficiencies in processing outbound vehicular and pedestrian traffic

• Lack of parking spaces

• Lack of a designated delivery area

• Deficiencies in exterior lighting

• Deficiencies related to security measures (equipment, fencing, building setbacks, etc.)

Comments

The Draft EIS was issued on July 28, 2006, initiating a 45-day public comment period. A public hearing was held on August 29, 2006 to receive comments. Comments received on the DEIS were responded to in the Final EIS.

The Final EIS was issued on July 6, 2007, initiating a 30-day comment period which ended on August 6, 2007. Letters were received from USEPA, USACOE, State Senator Vince Illuzzi, the Town of Derby Select Board, the Village of Derby Line Trustees and two private citizens.

Federal Agencies

USEPA

Comment: The Environmental Protection Agency—New England Region (EPA) has reviewed the U.S. General Services Administration's (GSA) Final Environmental Impact Statement for a new U. S. Border Station and Commercial Port of Entry in Derby Line, Vermont. We continue to have no objections to the project as described.

Response: GSA appreciates EPA's lack of objections to the project and their designation of the EIS as adequate. As a final design for the facility is developed, GSA/CBP will evaluate traffic processing flow and wait times and, if necessary, identify appropriate idling reduction strategies.

USACOE

Comment 1: During a February 2, 2006 on-site meeting and in an April 4, 2006 e-mail message with your consultant, The Louis Berger Group, they were informed that the proposed project will require a Department of the Army permit under Section 404 of the Clean Water Act (CWA) and that the New England Division Highway Methodology will be followed.

This process integrates the Corps of Engineers Section 404 process and the NEPA EIS process. To this date we have not received an application to perform the proposed work discussed in the Final EIS. For individual permits you must submit information that thoroughly and clearly documents the need for the fill, alternatives, and mitigation possibilities. Without this information, we could not issue a permit to place the fill. Additionally, in accordance with our regulations, no permit can be issued unless it complies with the Environmental Protection Agency's 404(b)(1) guideline. These guidelines prohibit discharges where less environmentally damaging, practicable alternatives (LEDPA) exist.

Although, the Final EIS has chosen a Build Alternative, the Corps has insufficient information at this time to select the LEDPA.

Therefore, our comments on the Final EIS are relatively brief and relate to the information that would be required in the future to evaluate a Department of the Army permit application to construct the proposed project.

Response 1: GSA recognizes that the Army Corps of Engineers will require additional information to evaluate the project. This information will be developed as the project advances through the design phase and will be furnished with the Department of the Army permit application.

Comment 2: The document generally addresses the environmental impacts of the project and of the preferred alternative. We believe that additional narrative descriptions of the aquatic resources that would be impacted and the nature of the impacts should be provided in order to provide a complete understanding of the project and its' effects. This information will be required for our permit review.

Response 2: As the project advances through the design phase, additional information will be developed that will be submitted with all permit applications.

Comment 3: Summary Page S-2, Hydrology: The brief summary mentions that the wetlands on the site are Class Three wetlands, which are not subject to the Vermont Wetland Rules. However, there is no mention that a permit will be required by the Corps of Engineers. The project will involve the placement of fill into the streams and wetlands on the site and, therefore, require a Department of the Army permit under Section 404 of the Clean Water Act (CWA). The need for potential mitigation for the proposed impacts to the aquatic resources should be mentioned.

Response 3: GSA recognizes that a permit from the Corps of Engineers will be required. As the design progresses to a point where it can support a permit application, the application will be submitted and mitigation measures will be discussed.

Comment 4: Alternatives: Three alternatives were initially considered and eliminated from further considerations based primarily on engineering. It's likely that these alternatives would have similar waterway and wetland impacts as the Build Alternative. Was any consideration given to the elimination of these alternatives based on their impact to the aquatic resources?

Response 4: GSA agrees that each of the eliminated alternatives would have similar waterway and wetland impacts as the Build Alternative. Because each initially failed from an engineering standpoint, no further consideration was given to them.

Comment 5: Build Alternative: Figure 6 is difficult to read with the yellow and green shading of the proposed highway alignments. The dark lines used to show proposed alignments in Figures 3, 4 & 5 allow you to view existing conditions.

Response 5: Comment noted.

Comment 6: Chapter 3, Hydrology: There is a lack of a clear understanding that a Department of the Army permit under the CWA will be required for the proposed project.

Response 6: GSA understands that a Department of the Army permit under the CWA will be required for the proposed project. An application for said permit will be submitted once the project's design advances to a point where sufficient detail is available to support the application.

Comment 7: Pg. 3-5: The Corps of Engineers does not have a “programmatic” General Permit in Vermont.

Response 7: Comment noted.

Comment 8: Pg. 4-3: Surface Water—There is no discussion of the proposed project's impact to the two streams within the project area. The on-site stormwater system has the potential to impact the streams and wetlands. These potential impacts should be mentioned in this chapter.

Response 8: As stated on Page 4-3, the existing facility has limited stormwater management measures in place; the proposed project will represent a substantial improvement over existing conditions. As a result, no significant impacts to surface water conditions are anticipated.

Comment 9: Wetlands—Figure 17 indicates that about 1.786 acres of wetlands will be impacted. Yet, here about 2.1 acres of wetland will be impacted. Check these calculations.

Response 9: Comment noted. Table 18 contains the correct information.

Comment 10: Table 18—Approximately 1.02 acres of Wetland E will be filled. Yet in Figure 17 about 0.721 acre of Wetland E will be filled and about 1.022 acres of Wetland E will remain. Check these calculations.

Response 10: Comment noted. Table 18 contains the correct information.

State Officials

State Senator Vince Illuzzi

Comment: Enclosed are two letters, one from the Village of Derby Line and the other from the Town of Derby, expressing relatively serious concerns, based on available information, about the proposed construction of a new commercial I-91 Derby Line port of entry and border station.

In addition to the concerns articulated in these two letters, I have heard from a number of area residents expressing similar concerns about the project.

Please give serious consideration to addressing and resolving the issues raised by these two letters.

I am also taking the liberty of sending copies of this letter with enclosures to Vermont's congressional delegation. This will enable our two U. S. Senators and our Congressman to more closely monitor the local issues and concerns.

Response: GSA appreciates Senator Illuzzi's interest in the proposed project. GSA is in receipt of the letters from the Village of Derby Line and the Town of Derby and has provided responses to them (see below).

Local Officials

Derby Select Board

Comment 1: We would like to address various concerns we have with the Final EIS for the proposed new commercial Port of Entry and Border Station, Route 1-91 Derby Line, Vermont. We do understand the need for a new Port of Entry and hope that it will have a minimal impact on the Town and Village during the entire process.

Response 1: GSA appreciates the Town's interest in the proposed project and will continue to make every reasonable effort to minimize potential impacts to the Town and Village.

Comment 2: The federal government will be taking significant portions of commercially zoned property. The remaining commercially zoned property will not be as valuable. The current and future effects of this land acquisition have not been considered as the value to the Town and Village is important for future economic development.

Response 2: On the east side of Route I-91, the proposed project will potentially acquire a vacant commercial parcel as well as an amount of frontage along Herrick Road. The amount to be acquired is small relative to the total area that has been commercially re-zoned. It should be noted that Herrick Road would merely be shifted to the east; access to all commercial parcels would remain. Further, the decrease in traffic congestion on Route I-91 would make the area more attractive to potential investors. It should also be noted that the amount of land estimated to be acquired is based upon the project's conceptual design, as the project advances through the design process the amount of land to be acquired could change and possibly be reduced.

Comment 3: The staffing increase has not been adequately answered either. We know the numbers have increased since 2001. What are those numbers? What are the current staffing levels? How many employees of Homeland Security? GSA? Section 1.2.2.1 mentions the increased staffing, but no numbers.

Response 3: Staffing levels are an operational issue rather than an environmental issue.

Comment 4: A greater concern is addressed in the Hazardous Cargo Plan of the EIS. The increasing numbers of trucks carrying hazardous materials going through the Port is worrisome. A truck that has a problem is allowed to stay at the Port in a restricted area for up to 48 hours. That is to (sic.) long for us to feel that the area residents are safe. The Town and Village should be notified immediately if this situation arises so that citizens can be notified and given the option to leave the area if they choose.

Response 4: As a result of the Trade Act of 2002, Advance Electronic Information is required for all cargo types entering the U.S., including hazardous materials. The Advance Electronic Information system requires that manifests for all commercial loads coming into the U.S. be sent to CBP at least one hour prior to arrival at the Port of Entry. If the one hour pre-clearance is not submitted, the truck is refused entry and turned back to Canada. In addition, all hazardous materials being imported into the U.S. must make a formal entry through a certified Customs broker and filed with CBP. Also, all drivers importing into the U.S. must have a valid FAST (Free and Secure Trade) card from CBP, if they do not possess a FAST card the shipment will not be allowed to enter the U.S. and will be returned to Canada. Each of these programs gives CBP advance warning of any hazardous cargo that would be arriving at the Port.

According to CBP operating procedures, if a truck (or any vehicle for that matter) arrived at the border with serious equipment issues constituting a hazardous situation, CBP would contact state and local authorities through 911 and would attempt to isolate the vehicle until emergency responders arrived at the scene to stabilize and remove the vehicle as soon as possible. Any truck that has a problem is not allowed to stay at the Port for up to 48 hours. CBP does not hold trucks at the Port at any time for reasons of unsafe operating conditions.

Comment 5: The Town of Derby has a Solid Waste Plan which needs to be followed along with the Northeast Kingdom Solid Waste Management District, of which Derby is a member.

Response 5: It is the policy of GSA to meet or exceed local regulations when it does not compromise the mission of the tenant agencies. To the extent possible, GSA will adhere to the Town's Solid Waste Plan and the regulations of the Northeast Kingdom Solid Waste Management District.

Comment 6: The truck traffic on Caswell Avenue as mentioned in section 3.2.7 is too high. The Village has been trying for years to reduce the heavy truck traffic through the Village. During construction and after, what assurance do we have that more trucks will stay on the interstate highway system?

Response 6: In order to reduce truck traffic on Caswell Avenue, the weight limits on Route I-91 would need authority to increase the weight limits on Route I-91; FHWA is the federal agency that regulates weight limits, which can only be done through Congressional action. Since this is an existing border station that must remain in operation for the duration of the construction process, the construction will be phased in such a way that the facility continues to effectively operate and perform its daily functions. Route I-91 would not be closed.

Comment 7: The air quality issues have not been adequately addressed either. The increased truck traffic only increases poor air quality. When traffic is backed up in both directions for a mile or more each way, the air quality is going to be effected. Studies need to be done in this area, not Chittenden County. On hot summer days we have truck and vehicular traffic backed up idling for hours in the Port area. What is the air quality for our residents like then, especially the residents at Michaud Manor who are elderly and may have breathing problems already?

Response 7: The proposed project will not result in increased truck traffic. It will provide more queuing space, which should help to alleviate traffic backups into Canada. Depending upon the CBP guidelines for vehicle processing in place at the time, it is possible that traffic backups could continue. During the project's design phase, additional traffic circulation modeling will be done to ascertain whether the proposed future 6th processing lane would be included as part of the project now.

Comment 8: We hope that these issues will be considered and answers provided to the questions we have as well as the citizens we represent, prior to any final decisions being made. We would gladly invite you to come back to Derby/Derby Line and address the questions we still have.

Response 8: GSA appreciates the Town's concerns and will continue to work with local officials to address these concerns as the project advances through the design process.

Trustees of the Village of Derby Line

Comment 1: We are writing this letter to address issues that we feel were not explained adequately in the Final Environmental Impact Statement (FEIS) for the proposed new Port of Entry on 1-91 in Derby Line. We know that the existing building is too small and is outdated, but we think that some issues need to be either explained more fully or changed in some way.

Response 1: GSA appreciates the interest of the Village of Derby Line in the proposed project and will endeavor to address any outstanding issues below.

Comment 2: First, we are concerned about both air and noise pollution. In the past year, Customs and Border Protection has instituted new inspection procedures that make the time to clear a vehicle (especially a passenger vehicle) much more lengthy. This means that vehicles stay in line longer and backups are longer, which means that there are more exhaust fumes and noise. The Sound Level table that you have page 3-47 of the FEIS is no longer valid as it dates before the new procedures. We would like tosee a new table based on measurements done under the new conditions. In addition we would like to see new air quality data.

Response 2: The proposed project will provide more queuing space, which should help to alleviate traffic backups into Canada. Depending upon the CBP guidelines for vehicle processing in place at the time, it is possible that traffic backups could ontinue. During the project's design phase, additional traffic circulation modeling will be done to ascertain whether the proposed future 6th processing lane would be included as part of the project now.

Comment 3: Also, the EPA has issued an anti-idling policy which cuts down on air pollution and saves on fuel. We would like to see this policy enforced at the new facility. In connection with noise pollution, we trust that you will continue to maintain the line of trees on the west side of I-9l as a buffer, but we also would like to see more of a noise barrier put in place. This could be a vegetated berm or a wall. Both of these structures could reduce noise by up to 20 decibels or more, while the tree barrier reduces it by just 5 decibels.

Response 3: As a final design for the facility is developed, GSA/CBP will evaluate traffic processing flow and wait times and, if necessary, identify appropriate idling reduction strategies. Such strategies may include development of signage at strategic locations and/or educational outreach to local industries whose drivers frequently use the border crossing.

With regard to noise, because of the expected improvement to traffic flow, future noise levels will not approach the FHWA abatement criteria of 67 dBA. As such, mitigation measures would not be required. GSA will, however, continue to evaluate potential noise impacts as the project progresses and will work with the community to reach a mutually agreeable scenario.

Comment 4: We are concerned about the number of trucks carrying hazardous materials though the I-91 port. Should there be a spill or explosion, the Village and its residents would be immediately affected. We would like to see a detailed hazmat plan that would be followed in the event of such an accident. In addition we would like to be informed of what extra safety precautions are taken for such cargo in the case that the truck has problems and must be held for 48 hours.

Response 4:As a result of the Trade Act of 2002, Advance Electronic Information is required for all cargo types entering the U.S., including hazardous materials. The Advance Electronic Information system requires that manifests for all commercial loads coming into the U.S. be sent to CBP at least one hour prior to arrival at the Port of Entry. If the one hour pre- clearance is not submitted, the truck is refused entry and turned back to Canada. In addition, all hazardous materials being imported into the U.S. must make a formal entry through a certified Customs broker and filed with CBP. Also, all drivers importing into the U.S. must have a valid FAST (Free and Secure Trade) card from CBP, if they do not possess a FAST card the shipment will not be allowed to enter the U.S. and will be returned to Canada. Each of these programs gives CBP advance warning of any hazardous cargo that would be arriving at the Port.

According to CBP operating procedures, if a truck (or any vehicle for that matter) arrived at the border with serious equipment issues constituting a hazardous situation, CBP would contact state and local authorities through 911 and would attempt to isolate the vehicle until emergency responders arrived at the scene to stabilize and remove the vehicle as soon as possible. Any truck that has a problem is not allowed to stay at the Port for up to 48 hours. CBP does not hold trucks at the Port at any time for reasons of unsafe operating conditions.

Comment 5: The FEIS states that the Village is due no compensation for the commercial land that is being appropriated due to the fact that no one is using it at this time, and future possibilities cannot be taken into account. This is ludicrous; the reason that commercial entities have not established themselves on the property is due to the very event that we are studying. No one is going to start a business on land that may well be appropriated by the government for port of entry expansion. We feel that the Village should be considered for some type of compensation for lost tax revenue.

Response 5: GSA will compensate individual property owners from whom land is acquired according to the fair market value of the land to be acquired. The fair market value considers a parcel's zoning and its future development potential and makes adjustments for it. The fact that Herrick Road would be shifted to the east, without cutting off access to any properties, should not discourage commercial entities from locating to the area. The laws and regulations that control land acquisition allow for direct compensation to the landowner whose property is taken, but prohibit payments to local governments for loss of tax revenue.

Comment 6: We are concerned about the increased paved area and the amount of stormwater runoff that will ensue. The Village already has an inadequate stormwater system. To burden it with more runoff could lead to serious flooding on Main Street in the Village. The FEIS says that provisions have been made for a stormwater system at the port of entry. The Village would like to be able to see and review this plan.

Response 6: The project site (the existing facility) sits at an elevation lower than the surrounding terrain; it is unlikely that any flooding would occur on Main Street, which is located over 2,000 feet to the west and at a higher elevation. As the project advances through the design process a detailed stormwater management plan will be developed. This plan will be shared with local officials.

Comment 7: The unnamed brook that flows from the east under the highway has been a brook trout habitat. We trust that every precaution will be taken to keep it so.

Response 7: During the project's design phase, all precautions will be taken to minimize impacts to the aforementioned brook.

Comment 8: The FEIS states that economic benefits will accrue to the six counties nearest the proposed new port of entry mainly in the labor and supplies needed to build the new building. However, this will last only as long as it takes to finish construction—approximately 2 years. The Village will bear the brunt of the costs (i.e., loss of tax revenue, cost of infrastructure changes, etc.), and could lose jobs if plans to automate commercial entries eliminate customs brokers businesses. There should be some compensation for this.

Response 8: As stated in the response to Comment 5, the laws and regulations that control land acquisition allow for direct compensation to the landowner whose property is taken, but prohibit payments to local governments for loss of tax revenue. During the design process, GSA will work with the Village to address the Village's concerns with regard to the cost of infrastructure changes.

Comment 9: Our last concern is that construction of the new facility will cause 1-91 to close for periods of time, rerouting the traffic to Rt. 5 through the Village. Since this crossing is already overtaxed, and long lineups are creating both traffic safety problems and difficulties in accessing businesses on the west side of Main Street, additional traffic would be a disaster. We want assurance that this event will not happen, and that vehicles will be able to cross the border at 1-91 at all times for the duration of the project.

Response 9: Since this is an existing border station that must remain in operation for the duration of the construction process, the construction will be phased in such a way that the facility continues to effectively operate and perform its daily functions. Route I-91 would not be closed.

Comment 10: Finally, we want to be consulted and have input on the final plan before it is published.

Response 10: It is the policy of GSA to meet or exceed local regulations when it does not compromise the mission of the tenant agencies. GSA will continue to solicit and welcome the coordination and cooperation of many entities from several local and state jurisdictions as the project advances.

Private Individuals

Randall Bronson

Comment 1: I am writing you concerning the proposed upgrading and reconstruction of the I-91 Customs and Immigration facility in Derby Line. As a nephew of Royce and Joyce Wilson, owners of the Wilson property (last home on Maple Street) that directly borders land that will be used as part of this upgrading, I need to once again make my concerns noted and seek a solution to these concerns. I am taking this step on behalf of my aunt and uncle (Royce Wilson and Joyce Wilson), the owners of this property and also because I do not want undue stress placed upon my Uncle (Royce Wilson) if the Build Alternative, as it seems, is the choice. His health has been impacted over the past few years and any move forward to construct the Build Alternative will certainly be an impact to his quality of life. As a matter of fact, if any of construction proposals impact or impede on the Wilson property, they will significantly reduce his quality of life. Please note that my Uncle, Bernard Wilson, passed away in 2005, after the previous letter I sent you.

Response 1: GSA appreciates Mr. Bronson's concerns and is sensitive to how the proposed project could affect Mr. Wilson's quality of life.

Comment 2: As clarification to some of the history provided by some of the historians you quoted during the last printing of the Impact Study, the changes should be noted as follows:

Elton Bennett farm and house used to exist between the I-91 South bound on-ramp and the current Customs Commercial Building. The house was moved towards Holland and located on the Jim Jacobs property during the construction of I-91.

There used to be a hay barn located south of the Wilson House, by about. 100-200 feet, where the Brokers Building is located. This property was not owned by the Wilson's.

The Cowle House was moved up Herrick Road to its present location. The Wilson's did not own any land south or east of their current property, nor did they farm any of the land. The Wilson residence did enjoy fresh spring water that was supplied by a spring located of a mile southeast of the residence. The connection to this well was severed during the construction of I-91.

Response 2: Comment noted.

Comment 3: First of all, I still believe the only option that will not impact the Wilson residence and property, is to not build. Not building will preserve the quality of the property and will have the least impact on the Royce and Joyce Wilson's ability to market the property and home in the future, if needed.

Response 3: The No-Build Alternative has been rejected because it does not meet the project's purpose and need and is not in the best interest of the United States.

Comment 4: The BUILD ALTERNATIVE will impact our homestead as follows:

1. The I-91 Southbound on-ramp will be unacceptably close to our property.

2. Loss of privacy will be realized and the closeness of the on-ramp could subject the property to invasion and unlawful trespass.

3. Noise level increases will be realized, even though you claim they won't.

4. The front door of the house will be within 75 to 100 feet of the on-ramp, taking away from the esthetic value of the house, not to mention public safety concerns.

5. This option will render the property unmarketable for residential or commercial sale because of the closeness to the I-91 ramp. No one will want to live that close to an on-ramp.

6. The stresses to Royce Wilson will be enormous as he has lived in this house and on this property for the majority of his life.

Response 4: GSA acknowledges the concerns of Mr. Bronson and will work with him and other members of the community to reach mutually agreeable mitigation scenarios.

Comment 5: In conclusion, as the concerned nephew of Royce and Joyce Wilson, I am advocating that I do not agree to the BUILD ALTERNATIVE. If GSA wishes to proceed with the BUILD ALTERNATIVE, the only option should be to negotiate monetary purchase of Royce and Joyce Wilson's homestead at current fair market value and not the value of the property post I-91 upgrade. The GSA purchase of their homestead could then be used as a buffer zone that could be used to allow for more privacy and. quality of life for remaining residents along Maple Street.

Response 5: GSA is willing to work with Mr. Bronson to achieve a mutually agreeable solution.

John Bullis

Comment 1: In regards to the proposed changes to the 1-91 POE. I have the same concerns as many others regarding noise, lighting, air pollution's.

Response 1: Comment noted.

Comment 2: However I have another and that is the fact that there exists a drainage ditch between the properties of 83 and 125 Highland Avenue. This ditch is fed on it's West end by a culvert under Highland Avenue and empties on it's East end into a field that will contain the 1-91 Southbound ramp. While most of the time this ditch is dry, there are times when it is full. During heavy rain and Springtime melts. Also there is a large amount of underdrain located under the ground proposed for the on ramp (165 feet I believe maybe more).

Response 2: Comment noted. As the project advances through the design process a detailed stormwater management plan will be developed.

Conclusion

GSA has reached its decision based upon information and analysis contained in the FEIS and outlined in this document. Based on these considerations, GSA has determined that the Build Alternative: (1) best satisfies the project's Purpose and Need, (2) poses the least impact to the natural and human environments, (3) has been selected based on processes in compliance with NEPA and other applicable requirements, and (4) may be advanced through detailed design and construction.

[FR Doc. E7-24445 Filed 12-17-07; 8:45 am]

BILLING CODE 6820-A8-S